DEPARTMENT OF TRANSPORTATION

Federal Transit Administration

Discretionary Funding Opportunity

AGENCY: Federal Transit Administration (FTA), DOT.

ACTION: Notice of Funding Availability (NOFA): Solicitation of Project Proposals for Innovative Safety, Resiliency, and All-Hazards Emergency Response and Recovery Research Demonstrations.

SUMMARY: The Federal Transit Administration (FTA) announces the availability of $29,000,000 in Research, Development, Demonstration, and Deployment Program funds for innovative safety, resiliency, and all-hazards emergency response and recovery research demonstration projects of national significance.

This NOFA makes funds available for cooperative agreements to engage in the demonstration of innovative technologies, methods, practices and techniques in three areas: (1) Operational safety, (2) infrastructure or equipment resiliency and (3) all-hazards emergency response and recovery methods. Eligible applicants include providers of public transportation; State and local governmental entities; departments, agencies, and instrumentalities of the Government including Federal laboratories; private or non-profit organizations; institutions of higher education; and technical and community colleges.

This notice solicits competitive proposals addressing priorities established by FTA for these research areas, provides instructions for submitting proposals, and describes criteria FTA will use to identify meritorious proposals for funding. This NOFA is also available on the FTA Web site at: www.fta.dot.gov. FTA will announce final selections on the Web site and in the Federal Register. Additionally, a synopsis of this funding opportunity will appear on the government-wide electronic grants Web site www.grants.gov (GRANTS.GOV).

DATES: Complete proposals must be submitted electronically through the (GRANTS.GOV) “APPLY” function by December 2, 2013. Prospective applicants should initiate the process by registering on the GRANTS.GOV Web site promptly to ensure completion of the application process before the submission deadline. Instructions for applying can be found on FTA's Web site at http://www.fta.dot.gov/grants/13077.html and in the “FIND” module of GRANTS.GOV. Mail and fax submissions will not be accepted.

FOR FURTHER INFORMATION CONTACT: For specific information regarding the three areas of research targeted within this NOFA contact the following program specialists in FTA's Office of Research, Demonstration, and Innovation (TRI):

For operational safety questions, contact Roy Chen, Office of Technology, email: royweishun.chen@dot.gov.

For infrastructure or equipment resiliency questions, please contact Terrell Williams, Office of Technology, email: terrell.williams@dot.gov.

For all-hazards emergency response and recovery questions contact Patrick Centolanzi, Office of Technology, email: patrick.centolanzi@dot.gov.

For general program information on this opportunity, contact Matthew Lesh, email: matthew.lesh@dot.gov. A TDD is available at 1-800-877-8339 (TDD/FIRS).

SUPPLEMENTARY INFORMATION:

Table of Contents

A. Authority

B. Purpose

C. Program Information

D. Proposal Submission Process

E. Proposal Information

F. Proposal Content

G. Evaluation Criteria

H. Review and Selection Process

I. Award Information

J. Award Administration

K. Technical Assistance

Appendix A: Registration in GRANTS.GOV

A. Authority

The Consolidated and Further Continuing Appropriations Act, 2012, Public Law 112-55, made $25,000,000 available to carry out innovative research and demonstrations of national significance under 49 U.S.C. 5312. Of that amount, this NOFA makes $20.8 million available for innovative safety, resiliency, and all-hazards emergency response and recovery research and demonstration projects of national significance. Projects awarded from FY 2012 research funds have no minimum, non-Federal, cost share requirement. This NOFA also makes available an additional $8.2 million in section 5312 FY 2013 research funds. However, amendments made to section 5312(f) by the Moving Ahead for Progress in the 21st Century Act (MAP-21), Public Law 112-141, require that those funds be matched by a non-Federal share of no less than 20 percent.

B. Purpose

A key strategic goal of DOT and FTA is to improve and maintain America's public transportation systems to ensure they are safe and in a state of good repair in order to meet performance objectives. The innovative research and demonstrations solicited by this NOFA are intended to develop and showcase promising technologies, methods, practices and techniques that improve public transportation systems. To this end, this NOFA seeks proposals for projects that engage in the demonstration of innovative technologies, methods, practices and techniques in three areas: (1) Operational safety, (2) infrastructure or equipment resiliency and (3) all-hazards emergency response and recovery methods.

This NOFA also describes proposal requirements, deadlines, and evaluation criteria.

C. Program Information

1. Eligible Proposers

Proposals will be accepted from providers of public transportation; State and local governmental entities; departments, agencies, and instrumentalities of the Government including Federal laboratories; private or non-profit organizations; institutions of higher education; and technical and community colleges. Substantial partnerships are encouraged with entities that can add value and expertise to the project. Examples of such entities include: Consortia of public transportation providers; manufacturers and suppliers to the public transportation industry; departments, agencies, and instrumentalities of the Government, including Federal laboratories; State and local governmental entities; non-profit organizations; institutions of higher education; or technical and community colleges. For-profit companies may participate on project teams; however, recipients and subrecipients of funding under this program may not charge a fee or make a profit from the FTA program funding.

The proposal must include a detailed statement regarding the role of any public transportation provider who is a project partner but may not be the lead applicant in the implementation of the project.

2. Eligible Projects

Eligible project proposals will indicate a focus on one of the following three areas: (1) Operational safety, (2) infrastructure or equipment resiliency and (3) all-hazards emergency response and recovery methods.

Project proposals must include a research, development and/or synthesis phase, a demonstration phase, and a project evaluation by an independent third-party. All phases are critical to project selection. Revenue-service, full-scale demonstrations are preferred where practicable. However, in cases where a full-scale demonstration would be impractical, detailed plans for a sub-scale demonstration or model of the innovative technology or practice will be considered. Basic research or studies that do not result in any demonstration of the potential for commercialization or broad deployment of the technology or practice within the scope of the project will not be funded.

(a) Operational Safety. Projects will develop and demonstrate new or substantially-improved, technologies, methods, practices and techniques that will increase the operational safety of public transportation services and reduce the risk of transit-related injuries and fatalities. Candidate technologies or practices for demonstration may include, but are not limited to: Electronic intrusion detection, remote rail monitoring, train undercarriage inspection systems, vehicle crashworthiness, connected vehicle infrastructure and intelligent at-grade railroad crossing warning systems, platform-edge doors, and automatic detection of distracted and/or fatigued operators.

(b) Resiliency. Projects will identify, develop, and demonstrate technologies, methods, practices and techniques for increasing the resiliency of public transportation systems to natural disasters and other emergencies that result from an external cause. A resilient public transit system has design-level robustness that minimizes the damage or incapacitation caused by a natural disaster or other emergency, and which allows it to continue to deliver service after an emergency; it is adaptable so that it can prepare for and respond appropriately to events in real time; and it can recover quickly from these events through effective and well-prepared response and recovery operations. These three attributes—robustness, adaptiveness, and readiness—form the foundations of a resilient public transit system.

Candidate technologies or practices for demonstration may include, but are not limited to: Increased corrosion resistance of transportation assets to saltwater, decreased system wide vulnerability to flooding and severe weather incidents, or increased resiliency of transportation assets to extreme heat or cold or prolonged temperature variations.

(c) All-Hazards Emergency Response and Recovery. Projects will investigate technologies, methods, practices and techniques that can improve communication with emergency responders in the event of emergencies, disruptions, and catastrophic failures and conduct a demonstration of the most promising methods and/or technologies in an operational environment to restore transit services. Candidate technologies or practices include, but are not limited to: Improved detection of, location of, communication with, and/or response to injured or ill passengers, senior and disabled passengers, emergency response personnel, equipment breakdowns, service disruptions, or hazardous conditions; and utilization of transit assets in non-transit emergency response and recovery efforts.

3. Funding Amounts and Requirements

Total project cost will be determined by each applicant. Applicants may apply for a minimum FTA project share of $500,000 and a maximum FTA project share of $5,000,000, consistent with the match requirements of funds used. FTA may select an application for an award of less than the originally-proposed amount if FTA determines that the project goals can be achieved with a lower award amount or if doing so is expected to result in a more advantageous portfolio of projects. Proposals should provide a detailed budget proposal for fully-realized project as well as a reduced scope and budget if the project can be scaled down and still achieve useful results. Applicants should specify and justify the minimum award amount needed to achieve effective project results including an independent third party evaluation phase.

To ensure that these funds are invested wisely, FTA reserves the right to award only some, or none, of the available funding in the event that that the projects proposed do not merit the full amount requested, or any award, based on the stated evaluation criteria.

Funds made available under this program may be used to fund operating expenses, preventive maintenance, and corrective maintenance directly associated with the demonstration of the targeted innovative technologies, methods, or practices, but may not be used to cover such expenses for equipment not essential to the project. Non-federal funding of expenses related to the projects may be counted toward the applicants' matching local cost share. FTA will not reimburse costs incurred prior to project selection unless FTA has granted the applicant a Letter of No Prejudice (LONP) in advance of project selection. Due to the multi-year origin of these funds, awards made using FY12 funds do not require a minimum, non-Federal, cost share. Awards made using FY13 funds will require a minimum 20 percent non-Federal cost share. Based on the number of proposals received, local match contributions of the proposals and the types of projects proposed, FTA will determine which year of funding will be attributed to projects during the selection process. Regardless of minimum share requirements, cost sharing is an evaluation criterion and proposals with higher local cost share will be considered more favorably. Cash and other high-quality matches will be considered more favorably than in-kind cost matching, though all are acceptable. FTA will not approve deferred local share. Recipients must comply with all applicable FTA requirements.

Eligible sources of non-Federal matching funds include:

(a) Cash from non-governmental sources other than revenues from providing public transportation services;

(b) Non-farebox revenues from the operation of public transportation service, such as the sale of advertising and concession revenues. A voluntary or mandatory fee that a college, university, or similar institution imposes on all its students for free or discounted transit service is not farebox revenue;

(c) Amounts received under a service agreement with a State or local social service agency or private social service organization;

(d) Undistributed cash surpluses, replacement or depreciation cash funds, reserves available in cash, or new capital;

(e) Amounts appropriated or otherwise made available to a department or agency of the Government (other than the Department of Transportation); and

(f) In-kind contribution such as the market value of in-kind contributions integral to the project may be counted as a contribution toward local share.

D. Proposal Submission Process

Project proposals must be submitted electronically through GRANTS.GOV (www.grants.gov) by December 2, 2013. Mail and fax submissions will not be accepted. A complete proposal submission will consist of at least two files: (1) the SF 424 Mandatory Form (downloaded from GRANTS.GOV) and (2) the Applicant and Proposal Profile for the “Innovative Safety, Resiliency, and All-Hazards Emergency Response and Recovery Research Demonstrations” found on the FTA Web site or through GRANTS.GOV. The Applicant and Proposal Profile provides guidance and a consistent format for proposers to respond to the criteria outlined in this NOFA. Once completed, the Applicant and Proposal Profile must be placed in the attachments section of the SF 424 Mandatory Form. Proposers must use the Applicant and Proposal Profile designated for the “Innovative Safety, Resiliency, and All-Hazards Emergency Response and Recovery Research Demonstrations” and attach it to their submission in GRANTS.GOV to successfully complete the application process. A proposal submission may also contain additional supporting documentation as attachments. Supporting documentation could include but is not limited to: Support letters, pictures, digitized drawings, spreadsheets, and brochures.

Within 24 to 48 hours after submitting an electronic proposal, the applicant should receive three email messages from GRANTS.GOV: (1) Confirmation of successful transmission to GRANTS.GOV, (2) confirmation of successful validation by GRANTS.GOV, and (3) confirmation of successful validation by FTA. If confirmations of successful validation are not received and a notice of failed validation or incomplete materials is received, the applicant must address the reason for the failed validation, as described in the email notice and resubmit before the submission deadline. If making a resubmission for any reason, include all original attachments regardless of which attachments were updated and check the box on the supplemental form indicating this is a resubmission.

FTA strongly encourages proposers to submit their project proposals at least 72 hours prior to the due date to allow time to receive the validation messages and to correct any problems that may have caused a rejection notification. FTA will not accept submissions after the stated submission deadline for any reason. GRANTS.GOV scheduled maintenance and outage times are announced on GRANTS.GOV. Deadlines will not be extended due to scheduled maintenance or outages.

Proposers are encouraged to begin the process of registration on the GRANTS.GOV Web site well in advance of the submission deadline. Instructions on the GRANTS.GOV registration process are listed in Appendix A. Registration is a multi-step process, which may take 3 to 5 days, but could take as much as several weeks to complete before an application can be submitted if the applicant needs to obtain certain identifying numbers external to GRANTS.GOV (for example, applying for an Employer Identification Number). Registered proposers may still be required to take steps to keep their registration up to date before submissions can be made successfully: (1) registration in the System for Award Management (SAM) is renewed annually and (2) persons making submissions on behalf of the Authorized Organization Representative (AOR) must be authorized in GRANTS.GOV by the AOR to make submissions.

Proposers may submit one proposal for each project or one proposal containing multiple projects. Proposers submitting multiple projects in one proposal must be sure to clearly define each project by completing a profile for each project. Supplemental profiles must be added within the proposal by clicking the “ADD PROJECT” button in Section II of the Applicant and Proposal Profile.

Information such as proposer name, Federal amount requested, local match amount, description of areas served, may be requested in varying degrees of detail on both the SF 424 Form and Applicant and Proposal Profile. Proposers must fill in all fields unless stated otherwise on the forms. Proposers should use both the “CHECK PACKAGE FOR ERRORS” and the “VALIDATE FORM” validation buttons on both forms to check all required fields on the forms, and ensure that the Federal and local amounts specified are consistent. The information described in Sections “E” through “H” below MUST be included and/or addressed on the SF 424 Form and Applicant and Proposal Profile for all requests for “Innovative Safety, Resiliency, and All-Hazards Emergency Response and Recovery Research Demonstrations” funding.

E. Proposal Information

1. Name of Applicant

2. Dun and Bradstreet (D&B) Data Universal Numbering System (DUNS) number if available. (Note: If selected, applicant will be required to provide DUNS number prior to grant award).

3. Contact information including: Contact name, title, address, Congressional district, fax and phone number, and email address if available.

4. Description of public transportation services including areas currently served by the public transportation system, if any.

5. Name of person(s) authorized to apply on behalf of the system (attach a signed transmittal letter) must accompany the proposal.

F. Proposal Content

For complete and up-to-date guidance on the project information and project evaluation criteria that must be documented, refer to the applicable program on the FTA Web site: http://www.fta.dot.gov/grants/13077.html. At a minimum, every proposal must:

1. Submit an SF-424 Form with the correct Applicant and Proposal Profile attached, as described above.

2. State the project title and describe the project scope to be funded in the executive summary, as well as the theme area (operational safety, infrastructure or equipment resiliency or all-hazards emergency response and recovery methods).

3. Indicate the type of service provided, project type and fleet information.

4. Address each specific and general evaluation criterion described in Section G below separately, demonstrating how the project responds to each criterion.

5. Provide a line-item budget for the total project with enough detail to indicate the various key components of the project. Project budgets must include a line item for an independent third-party project evaluation of the overall effectiveness of the research and demonstration by an organization or individual that has not otherwise participated in the project. Project schedules should include this third-party evaluation within two years of the date of award. As FTA may elect to fund only part of some project proposals, the budget should provide for the minimum amount necessary to fund specific project components of independent utility. If the project can be scaled, provide a scaling plan describing the minimum funding necessary for a feasible project and the impacts of a reduced funding level.

6. Provide the Federal amount requested.

7. If applicable, document the matching funds, including amount and source of the match (Matching funds may include local or private sector financial participation in the project).

8. The proposed location(s) of the research and demonstration and the transit service mode that the technology will be demonstrated in.

9. Any requested deviations from FTA requirements (FTA is not inclined to grant deviations from its requirements, but may consider deviations if the applicant can show a compelling benefit).

10. If the proposed project represents steps toward a larger goal, applicants may provide a brief description of suggested follow-on research and/or demonstrations. FTA cannot guarantee selection or funding of such follow-on activities.

11. The technology to be used in this demonstration and explanation of the principle of operation for the transit service mode specified.

12. Potential issues (technical or other) that may impact the success of the project.

13. Provide support documentation, including financial statements, bond-ratings, and documents supporting the commitment of non-federal funding to the project, or a timeframe upon which those commitments would be made.

14. Address whether other Federal funds have been sought for the project.

15. Provide a project time-line outlining steps from project development through completion, depicting significant milestones including but not limited to the anticipated date on which requests for proposals for project components or contracting are expected and actual or expected delivery dates.

16. Provide Congressional district information for the project's place of performance.

G. Evaluation Criteria

FTA will evaluate proposals based on the criteria described in this section. All of the projects share the same general evaluation criteria listed in Section G(1). In addition, each research and demonstration area has specific evaluation criteria listed in Section G(2). Proposals must provide sufficiently detailed information for FTA to evaluate them against these criteria.

(1) General Evaluation Criteria

(a) Project Effectiveness

(i) The effectiveness of the project in achieving and demonstrating the specific objectives of the technology area(s) described above;

(ii) Significant impacts on DOT and FTA strategic objectives for improving Safety or State of Good Repair. Additional impacts on other strategic objectives for the goals of Economic Competitiveness, Livable Communities, and Environmental Sustainability will be considered favorably;

(iii) The multimodal (bus, BRT, light rail, heavy rail, ferry, commuter rail, monorail, automated guideway, inclined plane, etc.) applicability of the demonstration; and

(iv) The degree of improvement over current technologies and practices.

(b) Project Innovation

The project identifies a unique, significant, or innovative approach for public transportation operations.

(c) National Applicability

The degree to which the project could be replicated by other transit agencies regionally or nationally.

(d) Project Schedule, Milestones, and Readiness

(i) The timeliness of the proposed project schedule, and the reasonableness of the proposed milestones.

(ii) A written commitment from all the project partners.

(iii) The availability of existing resources (physical facilities, human resources, partnerships) to carry out the project.

(iv) The demonstrated capacity and experience of the partners to carry out the demonstration project of similar size and/or scope and specific prior experience with demonstration projects.

(v) Details on whether the proposed demonstration is a new effort or a continuation of a related research or demonstration project.

(e) Project Management

(i) The proposal provides specific details demonstrating the lead applicant's role in the management of the project and the involvement of other partners to include a provider(s) of public transit service.

(ii) The applicant is in a fundable status for FTA awards.

(iii) The proposal demonstrates the applicant's project team's technical capacity to carry out the project, including the project approach or project management plan.

(iv) There are no outstanding legal, technical, or financial issues with the project partners that would make this a high-risk project.

(v) If local match is provided, the source(s) of local match is identified and is available for prompt project implementation if selected (no deferred local share will be allowed).

(f) Commercialization or Dissemination Plan

(i) The application demonstrates an effective, timely, and realistic plan for moving the results of the project into the transit marketplace.

(ii) Describe how the project team plans to disseminate the result of the project to the transit industry.

(g) Return on Investment

(i) The cost-effectiveness of the proposed research and demonstration effort;

(ii) The cost-effectiveness of the specific anticipated technologies when they are later adopted or commercialized;

(iii) The anticipated measurable benefits relative to the Federal cost share (leveraging the Federal investment with greater non-Federal cost share will tend to increase the cost-effectiveness of a project).

(iv) Any anticipated intangible benefits, such as making public transportation more appealing to potential passengers, providing educational opportunities, or reducing negative externalities such as traffic congestion.

(2) Specific Evaluation Criteria

Applicants will need to provide a detailed narrative describing the outcomes of a project towards addressing Operating Safety, Infrastructure and Equipment Resiliency, or All-Hazards Emergency Response and Recovery. Applicants should also provide metrics that address a project's ability to meet these outcomes.

(a) Operating Safety Technology

Metrics could include, but are not limited to: Predicted reduction in public transportation fatalities or injuries, predicted reduction in “close calls,” or predicted reduction in property damage to transit vehicles, infrastructure or vehicles and objects involved in transit vehicle collisions.

(b) Infrastructure & Equipment Resiliency

Metrics could include, but are not limited to: A decrease in vulnerability of a transit asset to a particular type of event, reduced costs for responding to and recovering from a particular type of event, increases in the useful life of a transit asset, or improvements to the ability of a transit system to provide service during and in the immediate aftermath of an event. Metrics could also include measurable improvements in the condition of a transit asset to a particular impact like corrosion or severe weather, or measureable effects such as asset damage avoided during a particular incident.

(c) All-Hazards Emergency Response and Recovery

Metrics could include, but are not limited to: Increases in reliability of access to systems during emergencies, increases in speed of access during emergencies, improvements to ease of operation, or robustness of access (A system's ability to continue functioning when portions of it are incapacitated).

H. Review and Selection Process

A technical evaluation committee comprised of FTA staff and representatives of other collaborative government agencies will review project proposals against the described evaluation criteria. The technical evaluation committee reserves the right to evaluate proposals it receives and to seek clarification from any proposer about any statement that is made in a proposal that FTA finds ambiguous. FTA may also request additional documentation or information to be considered during the evaluation process. To provide the ability to evaluate technologies in a wide variety of conditions and locales, FTA may select projects to ensure geographic diversity among demonstrations under this NOFA.

After a thorough evaluation of all eligible proposals, the technical evaluation committee will provide project recommendations to the FTA Administrator. The FTA Administrator will determine the final list of project selections, the amount of funding for each project, and which fiscal year funds will be attributable to each project. FTA supports a balanced research portfolio that includes at least one project from each research area; however, depending on the results of the evaluation of proposals, it is possible that no projects will be funded in one or more of the research areas. The applicant's receipt of other Federal funding may be considered in FTA's award decisions.

I. Award Information

To enhance the value of the portfolio of research and demonstration projects to be implemented, FTA reserves the right to request an adjustment of the project scope and budget of any proposal selected for funding. Such adjustments shall not constitute a material alteration of any aspect of the proposal that influenced the proposal evaluation or decision to fund the project.

If an application proposes a specific party(ies) to provide unique or innovative goods or services on a project, FTA reserves the right to name such party as a key party and to make any award conditional upon the participation of the key party. A key party is essential to the project as approved by FTA and is therefore eligible for a noncompetitive award by the project sponsor to provide the goods or services described in the application. A key party's participation on a selected project may not be substituted without FTA's approval.

FTA expects to announce the selected projects and notify successful proposers in Fall 2013.

J. Award Administration

Successful proposers will apply for, and FTA will award funding through its “TEAM” grant and cooperative agreement management system once selected projects have been identified and published in the Federal Register. These projects will be administered and managed by FTA's Office of Research, Demonstration, and Innovation (TRI) in accordance with the applicable Federal requirements of 49 U.S.C. Chapter 53 and FTA Circular 6100.1D.

(1) Cooperative Agreement Requirements

FTA intends to apply 49 U.S.C. 53 requirements, the FTA Master Agreement, and FTA Circular 6100.1D, “Research, Technical Assistance, and Training Programs: Application Instructions and Program Management Guidelines,” issued May 1, 2011, to projects selected under this program unless otherwise specified in the cooperative agreement. Technical assistance regarding these requirements is available from FTA. This FTA Circular may be found at: http://www.fta.dot.gov/images/carousel_images/Final_Research_Circular_—_Policy_Counci_3-28-2011.pdf.

Applicants must sign and submit current Certifications and Assurances before receiving a grant. If the applicant has already submitted the annual Certifications and Assurances in TEAM, they do not need to be resubmitted. The Applicant assures that it will comply with all applicable Federal statutes, regulations, Executive Orders, FTA circulars, and other Federal administrative requirements in carrying out any project supported by the FTA grant. The Applicant acknowledges that it is under a continuing obligation to comply with the terms and conditions of the grant agreement issued for its project with FTA. The Applicant understands that Federal laws, regulations, policies, and administrative practices might be modified from time to time and may affect the implementation of the project. The Applicant agrees that the most recent Federal requirements will apply to the project, unless FTA issues a written determination otherwise.

(2) Reporting Requirements

FTA reporting requirements include standard reporting requirements identified in FTA Circular 6100.1D and the Master Grant Agreement.

(3) Independent Third-Party Evaluation of Project Success

FTA is required by 49 U.S.C. Section 5312(d)(4) to evaluate every demonstration of innovation within two years after award. Applicants must arrange for, and FTA must approve, an independent third-party evaluation of the project's success. This third-party evaluation is an eligible project expense, and must be completed within two years of the project award.

K. Technical Assistance

FTA will post answers to commonly asked questions about this NOFA at www.fta.dot.gov. Technical assistance regarding these requirements is available from FTA's Office of Research, Demonstration, and Innovation (TRI) by contacting the appropriate person(s) listed in the FOR FURTHER INFORMATION CONTACT section of this notice. TRI will contact those applicants selected for funding to provide assistance in preparing the documentation necessary to apply for the cooperative agreement and to clarify reporting requirements.

Peter Rogoff,
Administrator.

Appendix A

REGISTERING IN SAM AND GRANTS.GOV

Registration in Brief

Registration can take as little as 3-5 business days, but since there could be unexpected steps or delays (for example, if you need to obtain an EIN), FTA recommends allowing ample time, up to several weeks, for completion of all steps.

STEP 1: Obtain DUNS Number

Same day. If requested by phone (1-866-705-5711) DUNS is provided immediately. If your organization does not have one, you will need to go to the Dun & Bradstreet Web site at http://fedgov.dnb.com/webform to obtain the number. *Information for Foreign Registrants. *Webform requests take 1-2 business days.

STEP 2: Register with SAM

Three to five business days or up to two weeks. If you already have a TIN, your SAM registration will take 3-5 business days to process. If you are applying for an EIN please allow up to two weeks. Ensure that your organization is registered with the System for Award Management (SAM) at System for Award Management (SAM). If your organization is not, an authorizing official of your organization must register.

STEP 3: Username & Password

Same day. Complete your AOR (Authorized Organization Representative) profile on Grants.gov and create your username and password. You will need to use your organization's DUNS Number to complete this step. https://apply07.grants.gov/apply/OrcRegister.

STEP 4: AOR Authorization

*Same day. The E-Business Point of Contact (E-Biz POC) at your organization must login to Grants.gov to confirm you as an Authorized Organization Representative (AOR). Please note that there can be more than one AOR for your organization. In some cases the E-Biz POC is also the AOR for an organization. *Time depends on responsiveness of your E-Biz POC.

STEP 5: Track AOR Status

At any time, you can track your AOR status by logging in with your username and password. Login as an Applicant (enter your username & password you obtained in Step 3) using the following link: applicant_profile.jsp.

[FR Doc. 2013-23885 Filed 9-30-13; 8:45 am]

BILLING CODE 4910-57-P